DEPARTMENT OF TRANSPORTATION

Federal Aviation Administration

14 CFR Part 39

[Docket No. FAA-2013-0525; Directorate Identifier 2011-SW-063-AD; Amendment 39-17730; AD 2014-02-02]

RIN 2120-AA64

Airworthiness Directives; Bell Helicopter Textron Canada Limited (Bell) Helicopters

AGENCY: Federal Aviation Administration (FAA), DOT.

ACTION: Final rule.

SUMMARY: We are adopting a new airworthiness directive (AD) for Bell Model 206L, L-1, L-3, and L-4 helicopters. This AD requires measuring each main rotor (M/R) blade spar space to determine whether it is oversized and reidentifying the M/R blade and reducing the life limit of the blade if the spar spacer is oversized. This AD was prompted by the manufacture of certain blades with an oversized spar spacer and the determination to reduce the life limits of those blades. The actions of this AD are intended to prevent failure of an M/R blade and subsequent loss of control of the helicopter.

DATES: This AD is effective March 7, 2014.

The Director of the Federal Register approved the incorporation by reference of a certain document listed in this AD as of March 7, 2014.

ADDRESSES: For service information identified in this AD, contact Bell Helicopter Textron Canada Limited, 12,800 Rue de l'Avenir, Mirabel, Quebec J7J1R4; telephone (450) 437-2862 or (800) 363-8023; fax (450) 433-0272; or at http://www.bellcustomer.com/files/. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, the Transport Canada Civil Aviation (TCCA) AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Sharon Miles, Aerospace Engineer, FAA, Rotorcraft Directorate, Regulations and Policy Group, 2601 Meacham Blvd., Fort Worth, Texas 76137, telephone (817) 222-5110, email sharon.y.miles@faa.gov.

SUPPLEMENTARY INFORMATION:

Discussion

On June 20, 2013, at 78 FR 37152, the Federal Register published our notice of proposed rulemaking (NPRM), which proposed to amend 14 CFR part 39 by adding an AD that would apply to Bell Model 206L, L-1, L-3, and L-4 helicopters. The NPRM proposed measuring the M/R blade spar spacer. If a blade is fitted with an oversized spacer, the NPRM proposed reidentifying the blade, reducing the life limit for the blade from 3,600 hours time-in-service (TIS) to 2,300 hours TIS, and making an entry on the component history card or equivalent record. The proposed requirements were intended to prevent failure of an M/R blade and subsequent loss of control of the helicopter.

The NPRM was prompted by AD No. CF-2011-43, dated November 10, 2011, issued by TCCA, which is the aviation authority for Canada, to correct an unsafe condition for Bell Model 206L, L-1, L-3, and L-4 helicopters. TCCA advises that, during manufacturing, some M/R blades were inadvertently fitted with oversized spar spacers, which reduces the life of the blades from 3600 to 2300 hours “air time.” As a result, TCCA has mandated procedures to reidentify blades that have oversized spar spacers with new part numbers and reduce the life limit for such blades.

Comments

After our NPRM (78 FR 37152, June 30, 2013), was published, we received comments from one commenter.

Request

The one commenter stated that Bell has released Revision A of Alert Service Bulletin (ASB) No. 206L-09-163, dated April 19, 2012, and requested that both the original ASB and Revision A be included in the final AD.

We agree that the AD should reference Revision A of the ASB. This revision only updates Bell's warranty information and does not change the technical aspects or the corrective actions. Thus, performing the actions in either the original ASB or Revision A before the effective date of this AD would constitute prior compliance with this AD.

FAA's Determination

These helicopters have been approved by TCCA and are approved for operation in the United States. Pursuant to our bilateral agreement with Canada, TCCA, its technical representative, has notified us of the unsafe condition described in the TCCA AD. We are issuing this AD because we evaluated all information provided by TCCA, reviewed the relevant information, considered the comment received, and determined the unsafe condition exists and is likely to exist or develop on other helicopters of these same type designs and that air safety and the public interest require adopting the AD requirements as proposed with the change previously described. Also, under paragraph (f) of the NPRM, the TCCA AD is incorrectly referenced as No. “CF-2011-41.” We have corrected paragraph (f) in this AD to correctly identify the TCCA AD as “CF-2011-43.” These changes are consistent with the intent of the proposals in the NPRM and will not increase the economic burden on any operator nor increase the scope of this AD.

Differences Between this AD and the TCCA AD

TCCA requires compliance time within 100 hours air time or 30 days. This AD requires compliance within 100 hours TIS.

Related Service Information

Bell issued ASB No. 206L-09-163, dated November 13, 2009, which specifies inspecting certain M/R blades for oversized spar spacers and reidentifying and reducing the life limit of any blade with an oversized spar spacer from 3600 to 2300 flight hours. On April 19, 2012, Bell issued ASB No. 206L-09-163, Revision A, dated April 19, 2012, to update the warranty information.

Costs of Compliance

We estimate that this AD will affect 688 helicopters of U.S. Registry.

We estimate that operators may incur the following costs in order to comply with this AD. It will take about 2.5 work hours to measure the spar spacer and reidentify the blade at $85 per work hour for a total cost of $213 per helicopter.

According to Bell's service information some of the costs of this AD may be covered under warranty, thereby reducing the cost to affected individuals. We do not control warranty coverage by Bell. Accordingly, we have included all costs in our cost estimate.

Authority for this Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-02-02 Bell Helicopter Textron Canada Limited: Amendment 39-17730; Docket No. FAA-2013-0525; Directorate Identifier 2011-SW-063-AD.

(a) Applicability

This AD applies to Model 206L, L-1, L-3, and L-4 helicopters with a main rotor (M/R) blade, part number (P/N) 206-015-001-115, -117, -119, or -121, with a serial number (S/N) listed in Table 1 or 2 of Bell Helicopter Alert Service Bulletin [No. 206L-09-163, Revision A, dated April 19, 2012 (ASB), certificated in any category.

(b) Unsafe Condition

This AD defines the unsafe condition as the manufacture of an M/R blade with an oversized spar spacer. This condition could result in failure of an M/R blade and subsequent loss of control of the helicopter.

(c) Effective Date

This AD becomes effective March 7, 2014.

(d) Compliance

You are responsible for performing each action required by this AD within the specified compliance time unless it has already been accomplished prior to that time.

(e) Actions Required

Within 100 hours time-in-service (TIS):

(1) For each M/R blade with an S/N listed in Table 1 of the ASB, measure the M/R blade spar spacer by following the Accomplishment Instructions, Part II A), paragraphs 1 through 3, of the ASB. If the spar spacer measures more than 1.018 inches (25.86 millimeters), reidentify the blade by following Part II A, paragraph 5.a. and Table 3, of the ASB.

(2) For each M/R blade with an S/N listed in Table 2 of the ASB, measure the M/R blade spar spacer by following the Accomplishment Instructions, Part II B, paragraphs 1 through 3, of the ASB. If the spar spacer measures more than 1.018 inches (25.86 millimeters), reidentify the blade by following Part II B, paragraph 5 and Table 4, of the ASB.

(3) For each reidentified blade, reduce the life limit from 3,600 hours TIS to 2,300 hours TIS, and make an entry on the component history card or equivalent record.

(4) Before further flight, remove any blade that exceeds the new retirement life of 2,300 hours TIS.

(f) Alternative Methods of Compliance (AMOCs)

(1) The Manager, Safety Management Group, FAA, may approve AMOCs for this AD. Send your proposal to: Sharon Miles, Aerospace Engineer, FAA, Rotorcraft Directorate, Regulations and Policy Group, 2601 Meacham Blvd., Fort Worth, Texas 76137, telephone (817) 222-5110, email sharon.y.miles@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in Transport Canada Civil Aviation (TCCA) AD CF-2011-43, dated November 10, 2011. You may view the TCCA AD on the internet at http://www.regulations.gov in Docket No. FAA-2013-0525.

(h) Subject

Joint Aircraft Service Component (JASC) Code: 6210 Main Rotor Blades.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Bell Helicopter Alert Service Bulletin No. 206L-09-163, Revision A, dated April 19, 2012.

(ii) Reserved.

(3) For Bell Helicopter service information identified in this AD, contact Bell Helicopter Textron Canada Limited, 12,800 Rue de l'Avenir, Mirabel, Quebec J7J1R4; telephone (450) 437-2862 or (800) 363-8023; fax (450) 433-0272; or at http://www.bellcustomer.com/files/.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on January 15, 2014.
Lance T. Gant,
Acting Directorate Manager, Rotorcraft Directorate, Aircraft Certification Service.

[FR Doc. 2014-01466 Filed 1-30-14; 8:45 am]

BILLING CODE 4910-13-P